DEPARTMENT OF JUSTICE

Notice of Lodging of Proposed Consent Decree Under the Park System Resource Protection Act

On August 15, 2013, the Department of Justice lodged a proposed Consent Decree with the United States District Court for the District of Minnesota in the lawsuit entitled United States v. Thomas Lombard and Catherine Lombard, Civil Action No. 13-cv-02214 (PJS/SER).

The United States of America, on behalf of the United States Department of the Interior, National Park Service (“NPS”), filed a claim against Defendants Thomas Lombard and Catherine Lombard (“Defendants”) to recover park system resource damages, assessment costs, and response costs pursuant to the Park System Resource Protection Act, 16 U.S.C. 19jj et seq., for destruction of, loss of, or injury to park system resources of the Saint Croix National Scenic Riverway (hereafter “Riverway”) in Minnesota resulting from the Defendants' unauthorized cutting of trees on NPS land in the Riverway. Under the proposed Consent Decree, Defendants' will pay a penalty of $20,000 for park system resource damages, assessment costs, and response costs as alleged in the Complaint. Additionally, the proposed Consent Decree requires the Defendants' to provide NPS access to Defendants' property to plant, water, and monitor replacement trees, and conduct other appropriate activities. Defendants will also supply water and equipment to water the trees.

The publication of this notice opens a period for public comment on the Consent Decree. Comments should be addressed to the Assistant Attorney General, Environment and Natural Resources Division, and should refer to United States v. Thomas Lombard and Catherine Lombard, D.J. Ref. No. 90-5-1-09379. All comments must be submitted no later than thirty (30) days after the publication date of this notice. Comments may be submitted either by email or by mail:

To submit comments: | Sent them to:
By email | pubcomment-ees.enrd@usdoj.gov.
By mail | Assistant Attorney General, U.S. DOJ-ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ-ENRD, P.O. Box 7611, Washington, DC 20044-7611.

Please enclose a check or money order for $6.50 (25 cents per page reproduction cost) payable to the United States Treasury.

Maureen Katz,
Assistant Section Chief, Environmental Enforcement Section, Environment & Natural Resources Division.

[FR Doc. 2013-20694 Filed 8-23-13; 8:45 am]

BILLING CODE 4410-15-P